DEPARTMENT OF THE INTERIOR

National Park Service

[NPS-WASO-NAGPRA-NPS0040033; PPWOCRADN0-PCU00RP14.R50000]

Notice of Inventory Completion: California Department of Transportation, Oakland, CA

AGENCY: National Park Service, Interior.

ACTION: Notice.

SUMMARY: In accordance with the Native American Graves Protection and Repatriation Act (NAGPRA), the California Department of Transportation (Caltrans) has completed an inventory of associated funerary objects and has determined that there is a cultural affiliation between the associated funerary objects and Indian Tribes or Native Hawaiian organizations in this notice.

DATES: Repatriation of the associated funerary objects in this notice may occur on or after May 30, 2025.

ADDRESSES: Lindsay Busse PQS Principal Investigator, Prehistoric Archaeology, California Department of Transportation, District 4, 111 Grand Avenue, Oakland, CA 94612, telephone (510) 847-1977, email lindsay.busse@dot.ca.gov and Althea Asaro, PQS Principal Investigator, Prehistoric Archaeology, California Department of Transportation, District 4, 111 Grand Avenue, Oakland, CA 94612, telephone (510) 847-2178, email althea.asaro@dot.ca.gov.

SUPPLEMENTARY INFORMATION: This notice is published as part of the National Park Service's administrative responsibilities under NAGPRA. The determinations in this notice are the sole responsibility of the Caltrans, and additional information on the determinations in this notice, including the results of consultation, can be found in its inventory or related records. The National Park Service is not responsible for the determinations in this notice.

Abstract of Information Available

Associated funerary objects have been identified totaling 1,182 catalog entries representing lithics, paleobotanicals, soil samples, faunal remains, shell, shell beads, light fraction samples, ground stone, baked clay, and post-contact historic artifacts. Of the 1,182 associated funerary objects, eight catalog numbers are missing and Caltrans and Sonoma State University (SSU) continue to look for them. These collections, known as the “Gleason Beach Collections,” are from Sonoma County along Highway 1 and are housed at SSU. The collections are the result of Caltrans project-delivery related excavations at the following sites between 1977 and 2020: CA-SON-346 (Acc. 2013-024); CA-SON-347 (Acc. 77-016, 2013-028, 2019-061, 2020-005, and an unaccessioned 2003 collection); CA-SON-2585 (Acc. 2013-026); CA-SON-2612 (Acc. 2013-027); and CA-SON-465/H (Acc. 2013-025). There are no known/documented potentially hazardous substances used to treat any of the cultural items. As a result of consultation, the Kashia Band of Pomo Indians of the Stewarts Point Rancheria deferred to the Federated Indians of Graton Rancheria.

Cultural Affiliation

Based on the information available and the results of consultation, cultural affiliation is clearly identified by the information available about the associated funerary objects described in this notice.

Determinations

Caltrans has determined that:

• The 1,182 objects described in this notice are reasonably believed to have been placed intentionally with or near individual human remains at the time of death or later as part of the death rite or ceremony.

• There is a connection between the associated funerary objects described in this notice and the Federated Indians of Graton Rancheria, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after May 30, 2025. If competing requests for repatriation are received, Caltrans must determine the most appropriate requestor prior to repatriation. Requests for joint repatriation of the associated funerary objects are considered a single request and not competing requests. Caltrans is responsible for sending a copy of this notice to the Indian Tribes and Native Hawaiian organizations identified in this notice.

Authority: Native American Graves Protection and Repatriation Act, 25 U.S.C. 3003, and the implementing regulations, 43 CFR 10.10.

Dated: April 15, 2025.
Melanie O'Brien,
Manager, National NAGPRA Program.

[FR Doc. 2025-07439 Filed 4-29-25; 8:45 am]

BILLING CODE 4312-52-P